DEPARTMENT OF THE TREASURY

Submission for OMB Review; Comment Request

March 16, 2011.

The Department of the Treasury will submit the following public information collection requirement to OMB for review and clearance under the Paperwork Reduction Act of 1995, Public Law 104-13 on or after the date of publication of this notice. A copy of the submission may be obtained by calling the Treasury Bureau Clearance Officer listed. Comments regarding this information collection should be addressed to the OMB reviewer listed and to the Treasury PRA Clearance Officer, Department of the Treasury, 1750 Pennsylvania Avenue, NW., Suite 11010, Washington, DC 20220.

Dates: Written comments should be received on or before April 20, 2011 to be assured of consideration.

Internal Revenue Service (IRS)

OMB Number: 1545-0197.

Type of Review: Revision of a currently approved collection.

Title: Form 5300, Application for Determination for Employee Benefit Plan, Schedule Q (Form 5300), Elective Determination Requests.

Form: 5300; Schedule Q (Form 5300).

Abstract: IRS needs certain information on the financing and operating of employee benefit and employee contribution plans set up by employers. IRS uses Form 5300 to obtain the information needed to determine whether the plans qualify under Code sections 401(a) and 501(a). Schedule Q provides information related to the manner in which a plan satisfies certain qualification requirements relating to minimum participation, coverage, and nondiscrimination.

Respondents: Private sector: Businesses or other for-profits.

Estimated Total Burden Hours: 9,638,000 hours.

OMB Number: 1545-1119.

Type of Review: Revision of a currently approved collection.

Title: Form 8804—Annual Return for Partnership Withholding Tax (Section 1446); Schedule A (Form 8804) Penalty; Form 8805—Foreign Partner's Information Statement of Section 1446 Withholding Tax; Form 8813.

Form: 8804; Form 8804 Schedule A; 8805; 8813.

Abstract: 1446 Section requires partnerships that are engaged in the conduct of a trade or business in the United States to pay a withholding tax equal to the applicable percentage of the effectively connected taxable income allocable to their foreign partners. The partnerships use Form 8813 to make payments of withholding tax to the IRS. They use Forms 8804 and 8805 to make annual reports to provide the IRS and affected partners with information to assure proper withholding, crediting to partners' accounts and compliance. Partnerships that have effectively connected taxable income (ECTI) allocable to foreign partners use Schedule A (Form 8804) to determine whether they are subject to the penalty for underpayment of estimated tax, and, if so, the amount of the underpayment penalty.

Respondents: Private sector: Businesses or other for-profits.

Estimated Total Burden Hours: 161,025 hours.

OMB Number: 1545-1756.

Type of Review: Extension without change of a currently approved collection.

Title: Revenue Procedure 2001-56, Demonstration Automobile Use.

Abstract: This revenue procedure provides optional simplified methods for determining the value of the use of demonstration automobiles provided to employees by automobile dealerships.

Respondents: Private sector: Businesses or other for-profits.

Estimated Total Burden Hours: 100,000 hours.

OMB Number: 1545-2097.

Type of Review: Extension without change of a currently approved collection.

Title: Reg-111583-07(TD 9405) (Final)—Employment Tax Adjustments.

Abstract: This document contains proposed amendments to regulations relating to employment tax adjustments and employment tax refund claims. These proposed amendments modify the process for making interest-free adjustments for both underpayments and overpayments of Federal Insurance Contributions Act (FICA) and Railroad Retirement Tax Act (RRTA) taxes and federal income tax withholding (ITW) under sections 6205(a) and 6413(a), respectively, of the Internal Revenue Code (Code).

Respondents: Private sector: Businesses or other for-profits.

Estimated Total Burden Hours: 15,000,000 hours.

OMB Number: 1545-1896.

Type of Review: Extension without change of a currently approved collection.

Title: Form 13551—Application to Participate in the IRS Acceptance Agent Program.

Form: 13551.

Abstract: Form 13551 is used to gather information to determine applicant's eligibility in the Acceptance Agent Program.

Respondents: Private sector: Businesses or other for-profits.

Estimated Total Burden Hours: 6,413 hours.

OMB Number: 1545-1640.

Type of Review: Extension without change of a currently approved collection.

Title: REG-104924-98 (NPRM) Mark to Market Accounting for Dealers in Commodities and Traders in Securities or Commodities.

Abstract: The collection of information in this proposed regulation is required by the Internal Revenue Service to determine whether an exemption from mark-to-market treatment is properly claimed. This information will be used to make that determination upon audit of taxpayers' books and records. The likely recordkeepers are businesses or other for-profit institution.

Respondents: Private sector: Businesses or other for-profits.

Estimated Total Burden Hours: 1,000 hours.

OMB Number: 1545-2084.

Type of Review: Extension without change of a currently approved collection.

Title: Foreign Based Importers—Non-Filers.

Abstract: Foreign corporations are subject to tax on income that is effectively connected with a U.S. trade or business and are required to file form 1120, 1120-f or 1065 reporting taxable income. The respondents will be foreign corporations. The information gathered will be used to determine if the foreign corporation has a U.S. trade or business and is required to file a U.S. Income Tax return.

Respondents: Private sector: Businesses or other for-profits.

Estimated Total Burden Hours: 30 hours.

OMB Number: 1545-1931.

Type of Review: Extension without change of a currently approved collection.

Title: REG-152354-04 (Final) Designated Roth Contributions to Cash or Deferred Arrangements Under Section 401(k).

Abstract: The final regulations provide guidance concerning the requirements for designated Roth contributions to qualified cash or deferred arrangements under section 401(k). The IRS need this information to insure compliance with section 401(k) and (m) and section 402A.

Respondents: Private sector: Businesses or other for-profits.

Estimated Total Burden Hours: 157,500 hours.

OMB Number: 1545-2024.

Type of Review: Extension without change of a currently approved collection.

Title: Form 13818—Limited Pay-ability Claim against the United States for Proceeds of the Internal Revenue Refund Check

Form: 13818.

Abstract: This form is used by taxpayers for completing a claim against the United States for the proceeds of an Internal Revenue refund check.

Respondents: Individuals or Households.

Estimated Total Burden Hours: 4,000 hours.

Bureau Clearance Officer: Yvette Lawrence, Internal Revenue Service, 1111 Constitution Avenue, NW., Washington, DC 20224; (202) 927-4374.

OMB Reviewer: Shagufta Ahmed, Office of Management and Budget, New Executive Office Building, Room 10235, Washington, DC 20503; (202) 395-7873.

Celina Elphage,
Treasury PRA Clearance Officer.

[FR Doc. 2011-6501 Filed 3-18-11; 8:45 am]

BILLING CODE 4830-01-P